ENVIRONMENTAL PROTECTION AGENCY

[EPA-HQ-OPP-2012-0019; FRL-9362-1]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period April 1, 2012 to June 30, 2012 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave. NW., Washington, DC 20460-0001; telephone number: (703) 308-8050.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2012-0019, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

Alabama

Department of Agriculture and Industries

Specific exemption: EPA authorized the use of cyazofamid on greenhouse grown basil to control downy mildew; May 15, 2012 to December 31, 2012. Contact: Debra Rate.

EPA authorized the use of mandipropamid on greenhouse grown basil to control downy mildew; May 15, 2012 to December 31, 2012. Contact: Debra Rate.

Arkansas

State Plant Board

Specific exemptions: EPA authorized the use of hop beta acids in beehives to control varroa mite; April 13, 2012 to December 31, 2012. Contact: Stacey Groce.

EPA authorized the use of fluridone on cotton to control glyphosate-resistant Palmer amaranth; April 17, 2012 to August 1, 2012. Contact: Keri Grinstead.

EPA authorized the use of sulfoxaflor on cotton grown in river delta counties to control tarnished plant bug, (Lygus lineolaris), June 1, 2012 to September 30, 2012. This request was granted because adequate control of plant bugs with registered alternatives is not achievable. The situation is being exacerbated by the mild winter and warm, wet spring resulting in greater initial populations moving from wild hosts into cotton. Since this request proposed use of a new chemical, a notice of receipt published in the Federal Register on June 8, 2011 (76 FR 33276) (FRL-8875-2) with the public comment period closing on June 23, 2011. Contact: Libby Pemberton.

California

Department of Pesticide Registration

Specific exemptions: EPA authorized the use of propiconazole on peach and nectarine to control sour rot; April 6, 2012, to November 30, 2012. Contact: Andrea Conrath.

EPA authorized the use of cyazofamid on greenhouse and shadehouse grown basil to control downy mildew; May 21, 2012, to May 20, 2013. Contact: Debra Rate.

EPA authorized the use of mandipropamid on greenhouse and shadehouse grown basil to control downy mildew; May 21, 2012, to May 20, 2013. Contact: Debra Rate.

EPA authorized the use of thiabendazole on mushroom to control green mold (Trichoderma aggressivum); May 31, 2012 to January 13, 2013. Contact: Andrea Conrath.

Delaware

Department of Agriculture

Specific exemption: EPA authorized the use of dinotefuran on pome and stone fruit to control brown marmorated stink bug; June 21, 2012 to October 15, 2012. Contact: Andrea Conrath.

Hawaii

Department of Agriculture

Specific exemption: EPA authorized the use of fludioxonil on pineapple to control post-harvest development of surface molds; May 21, 2012 to May 21, 2013. Contact: Andrea Conrath.

Illinois

Department of Agriculture

Specific exemptions: EPA authorized the use of cyazofamid on basil to control downy mildew; April 26, 2012 to October 15, 2012. Contact: Debra Rate.

EPA authorized the use of mandipropamid on basil to control downy mildew; April 26, 2012 to October 15, 2012. Contact: Debra Rate.

Iowa

Department of Agriculture

Specific exemption: EPA authorized the use of hop beta acids in beehives to control varroa mite; April 5, 2012 to December 31, 2012. Contact: Stacey Groce.

Louisiana

Department of Agriculture and Forestry

Specific exemptions: EPA authorized the use of dinotefuran on rice to control rice stink bug (Oebalus pugnax); May 2, 2012 to October 30, 2012. Contact: Libby Pemberton.

EPA authorized the use of fluxapyroxad on rice in the vicinity of Mowata to control sheath blight; May 11, 2012 to August 1, 2012. Contact: Debra Rate.

EPA authorized the use of sulfoxaflor on cotton grown in river delta counties to control tarnished plant bug, (Lygus lineolaris), June 1, 2012 to September 30, 2012. This request was granted because adequate control of plant bugs with registered alternatives is not achievable. The situation is being exacerbated by the mild winter and warm, wet spring resulting in greater initial populations moving from wild hosts into cotton. Since this request proposed use of a new chemical, a notice of receipt published in the Federal Register on June 8, 2011 with the public comment period closing on June 23, 2011. Contact: Libby Pemberton.

Maryland

Department of Agriculture

Specific exemption: EPA authorized the use of dinotefuran on pome and stone fruit to control brown marmorated stink bug; June 21, 2012 to October 15, 2012. Contact: Andrea Conrath.

Massachusetts

Department of Agricultural Resources

Specific exemptions: EPA authorized the use of hop beta acids in beehives to control varroa mite; May 14, 2012 to December 31, 2012. Contact: Stacey Groce.

EPA authorized the use of quinclorac on cranberries to control dodder (Cuscuta gronovii); April 3, 2012 to July 31, 2012. Contact: Marcel Howard.

Michigan

Department of Agriculture

Specific exemption: EPA authorized the use of hop beta acids in beehives to control varroa mite; April 5, 2012 to December 31, 2012. Contact: Stacey Groce.

Mississippi

Department of Agriculture

Specific exemption: EPA authorized the use of sulfoxaflor on cotton grown in river delta counties to control tarnished plant bug, (Lygus lineolaris), June 1, 2012 to September 30, 2012. This request was granted because adequate control of plant bugs with registered alternatives is not achievable. The situation is being exacerbated by the mild winter and warm, wet spring resulting in greater initial populations moving from wild hosts into cotton. Since this request proposed use of a new chemical, a notice of receipt published in the Federal Register on June 8, 2011 with the public comment period closing on June 23, 2011. Contact: Libby Pemberton.

Montana

Department of Agriculture

Specific exemptions: EPA authorized the use of Bacillus mycoides isolate J on seed potato grown in Montana to control tuber infections caused by Potato Virus Y (PVY), June 14, 2012, to August 15, 2012. This request was granted because there are no registered alternatives to control PVY and adequate control of aphids which vector PVY with registered alternatives is not achievable. Since this request proposed use of a new, unregistered chemical, a notice of receipt published in the Federal Register on June 6, 2012 (77 FR 33455) (FRL-9351-2) with the public comment period closing on June 11, 2012. Contact: Debra Rate.

New Jersey

Department of Environmental Protection

Specific exemptions: EPA authorized the use of quinclorac on cranberries to control dodder (Cuscuta gronovii); April 3, 2012 to December 15, 2012. Contact: Marcel Howard.

EPA authorized the use of dinotefuran on pome and stone fruit to control brown marmorated stink bug; June 21, 2012 to October 15, 2012. Contact: Andrea Conrath.

North Carolina

Department of Agriculture and Consumer Services

Specific exemption: EPA authorized the use of dinotefuran on pome and stone fruit to control brown marmorated stink bug; June 21, 2012 to October 15, 2012. Contact: Andrea Conrath.

Ohio

Department of Agriculture

Specific exemption: EPA authorized the use of hop beta acids in beehives to control varroa mite; April 3, 2012 to December 31, 2012. Contact: Stacey Groce.

Oregon

Department of Agriculture

Specific exemption: EPA authorized the use of quinclorac on cranberries to control yellow loosestrife (Lysimachia terrestris); April 27, 2012 to August 1, 2012. Contact: Debra Rate.

Pennsylvania

Department of Agriculture

Specific exemption: EPA authorized the use of dinotefuran on pome and stone fruit to control brown marmorated stink bug; June 21, 2012 to October 15, 2012. Contact: Andrea Conrath.

South Carolina

Department of Pesticide Regulation

South Dakota

Department of Agriculture

Specific exemption: EPA authorized the use of hop beta acids in beehives to control varroa mite; April 5, 2012 to December 31, 2012. Contact: Stacey Groce.

Tennessee

Department of Agriculture

Specific exemption: EPA authorized the use of sulfoxaflor on cotton grown in river delta counties to control tarnished plant bug, (Lygus lineolaris), June 1, 2012, to September 30, 2012. This request was granted because adequate control of plant bugs with registered alternatives is not achievable. The situation is being exacerbated by the mild winter and warm, wet spring resulting in greater initial populations moving from wild hosts into cotton. Since this request proposed use of a new chemical, a notice of receipt published in the Federal Register on June 8, 2011 with the public comment period closing on June 23, 2011. Contact: Libby Pemberton.

Texas

Department of Agriculture

Specific exemptions: EPA authorized the use of cyazofamid on greenhouse grown basil to control downy mildew; June 22, 2012 to June 22, 2013. Contact: Debra Rate.

EPA authorized the use of mandipropamid on greenhouse grown basil to control downy mildew; June 22, 2012 to June 22, 2013. Contact: Debra Rate.

Virginia

Department of Agriculture and Consumer Services

Specific exemption: EPA authorized the use of dinotefuran on pome and stone fruit to control brown marmorated stink bug; June 21, 2012 to October 15, 2012. Contact: Andrea Conrath.

Washington

Department of Agriculture

Specific exemptions: Quinclorac on cranberries to control yellow loosestrife (Lysimachia terrestris); April 27, 2012 to August 1, 2012. Contact: Debra Rate.

EPA authorized the use of lambda-cyhalothrin on asparagus to control European asparagus aphid (Brachycolus asparagi); May14, 2012, to September 30, 2012. Contact: Libby Pemberton.

West Virginia

Department of Agriculture

Specific exemption: EPA authorized the use of dinotefuran on pome and stone fruit to control brown marmorated stink bug; June 21, 2012 to October 15, 2012. Contact: Andrea Conrath.

Wisconsin

Department of Agriculture, Trade, and Consumer Protection

Specific exemptions: EPA authorized the use of spirotetramat on dry bulb onions to control thrips; April 5, 2012 to September 15, 2012. Contact: Keri Grinstead.

EPA authorized the use of hop beta acids in beehives to control varroa mite; April 10, 2012 to December 31, 2012. Contact: Stacey Groce.

Wyoming

Department of Agriculture

Specific exemption: EPA authorized the use of diflubenzuron on alfalfa to control Mormon cricket and various grasshopper species; May 22, 2012 to October 31, 2012. Contact: Andrea Conrath.

B. Federal Departments and Agencies

Defense Department

Quarantine exemption: EPA authorized the use of paraformaldehyde in or on containment areas and equipment to control infectious agents; May 15, 2012 to May 15, 2015. Contact: Princess Campbell.

List of Subjects

Environmental protection, Pesticides and pests.

Dated: October 18, 2012.
Lois Rossi,
Director, Registration Division, Office of Pesticide Programs.

[FR Doc. 2012-27062 Filed 11-6-12; 8:45 am]

BILLING CODE 6560-50-P